DEPARTMENT OF THE INTERIOR

Office of the Secretary

Renewal of Information Collection; OMB Control Number 1040-0001, DOI Programmatic Clearance for Customer Satisfaction Surveys

AGENCY: Department of the Interior.

ACTION: Notice of submission to OMB; request for comments.

SUMMARY: We (Department of the Interior, DOI) have submitted a request to the Office of Management and Budget (OMB) to approve the information collection (IC) described below. This IC is scheduled to expire March 31, 2012. As required by the Paperwork Reduction Act of 1995 and as part of our continuing efforts to reduce paperwork and respondent burden, we invite the general public and other Federal agencies to take this opportunity to comment on this IC.

DATES: OMB has 60 days to review this request but may act after 30 days, therefore you should submit your comments on or before April 30, 2012.

ADDRESSES: You may submit your comments directly to the Desk Officer for the Department of the Interior (OMB control #1040-0001), Office of Information and Regulatory Affairs, OMB, by email at oira_docket@omb.eop.gov or by fax at 202-395-5806. Please also send a copy of your comments to the Department of the Interior; Office of Policy Analysis; Attention: Don Bieniewicz; Mail Stop 3530; 1849 C Street NW., Washington, DC 20240, or by fax to 202-208-4867, or by email to Donald_Bieniewicz@ios.doi.gov. Reference “DOI Programmatic Clearance for Customer Satisfaction Surveys” in your email subject line. Include your name and return address in your email message and mark your message for return receipt.

FOR FURTHER INFORMATION CONTACT: Contact Don Bieniewicz on 202-208-4915. You may also review the submitted information collection request online at http://www.reginfo.gov. Follow the instructions to review Department of the Interior collections under review by OMB.

SUPPLEMENTARY INFORMATION:

I. Abstract

The Government Performance and Results Act of 1993 (GPRA) (Pub.L. 103-62) requires agencies to “improve Federal program effectiveness and public accountability by promoting a new focus on results, service quality, and customer satisfaction.” In order to fulfill this responsibility, DOI bureaus and offices must collect data from their respective user groups to better understand the needs and desires of the public and to respond accordingly. Executive Order 12862 “Setting Customer Service Standards” also requires all executive departments to “survey customers to determine * * * their level of satisfaction with existing services.” Executive Order 13571 “Streamlining Service Delivery and Improving Customer Service” further mandates “establishing mechanisms to solicit customer feedback on Government services and using such feedback regularly to make service improvements.”

We use customer satisfaction surveys to help us fulfill our responsibilities to provide excellence in government by proactively consulting with those we serve. This programmatic clearance provides an expedited approval process for DOI bureaus and offices to conduct customer research through external surveys such as questionnaires and comment cards.

The proposed renewal covers all of the organizational units and bureaus in DOI. Information obtained from customers by bureaus and offices will be provided voluntarily. Questions may be asked in languages other than English (e.g., Spanish) where appropriate.

Topic areas serve as a guide within which the bureaus and offices will develop questions. No one survey will cover all the topic areas. The topic areas include:

(1) Delivery, quality and value of products, information, and services. Respondents may be asked for feedback regarding the following attributes of the information, service, and products provided:

(a) Timeliness

(b) Consistency

(c) Accuracy

(d) Ease of Use and Usefulness

(e) Ease of Information Access

(f) Helpfulness

(g) Quality

(h) Value for fee paid for information/product/service.

(2) Management practices. This area covers questions relating to how well customers are satisfied with DOI management practices and processes, what improvements they might make to specific processes, and whether or not they feel specific issues were addressed and reconciled in a timely, courteous, and responsive manner.

(3) Mission management. We will ask customers to provide satisfaction data related to DOI's ability to protect, conserve, provide access to, provide scientific data about, and preserve natural, cultural, and recreational resources that we manage, and how well we are carrying out our trust responsibilities to American Indians.

(4) Rules, regulations, policies. This area focuses on obtaining feedback from customers regarding fairness, adequacy, and consistency in enforcing rules, regulations, and policies for which DOI is responsible. It will also help us understand public awareness of rules and regulations and whether or not they are explained in a clear and understandable manner.

(5) Interactions with DOI Personnel and Contractors. Questions will range from timeliness and quality of interactions to skill level of staff providing the assistance, as well as their courtesy and responsiveness during the interaction.

(6) General demographics. Some general demographics may be gathered to augment satisfaction questions so that we can better understand the customer and improve how we serve that customer. We may ask customers how many times they have used a service, visited a facility within a specific timeframe, their ethnic group, or their race.

All requests to collect information under the auspices of this proposed renewal will be carefully evaluated to ensure consistency with the intent, requirements, and boundaries of this programmatic clearance. Interior's Office of Policy Analysis will conduct an administrative and technical review of each specific request in order to ensure statistical validity and soundness. All information collections are required to be designed and deployed based upon acceptable statistical practices and sampling methodologies, and procedures that account for and minimize non-response bias, in order to obtain consistent, valid data and statistics that are representative of the target populations. After completion of its review, the Office of Policy Analysis will forward the specific request to OMB for expedited approval.

II. Data

OMB Control Number: 1040-0001.

Title: DOI Programmatic Clearance for Customer Satisfaction Surveys.

Form Number(s): None.

Type of Request: Extension of an approved collection.

Affected Public: DOI customers. We define customers as anyone who uses DOI resources, products, or services. This includes internal customers (anyone within DOI) as well as external customers (e.g., the American public, representatives of the private sector, academia, other government agencies). Depending upon their role in specific situations and interactions, citizens and DOI stakeholders and partners may also be considered customers. We define stakeholders to mean groups or individuals who have an expressed interest in and who seek to influence the present and future state of DOI's resources, products, and services. Partners are those groups, individuals, and agencies who are formally engaged in helping DOI accomplish its mission.

Respondent's Obligation: Voluntary.

Frequency of Collection: On occasion.

Estimated Annual Number of Respondents: 120,000. We estimate approximately 60,000 respondents will submit DOI customer satisfaction surveys and 60,000 will submit comment cards.

Estimated Total Annual Responses: 120,000.

Estimated Time Per Response: 15 minutes for a customer survey; 3 minutes for a comment card.

Estimated Total Annual Burden Hours: 18,000.

III. Request for Comments

On December 12, 2011, we published in the Federal Register (76 FR 77244) a request for public comments on this proposed renewal. We received one comment expressing general criticism of DOI management. Because the comment provided no specifics, we have not modified the proposed renewal. The public now has a second opportunity to comment on this renewal. We invite comments concerning this IC on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. Before including your address, phone number, email address, or other personal identifying information in your comment, you should be aware that your entire comment, including your personal identifying information, may be made publicly available at any time.

While you can ask us or OMB in your comment to withhold your personal identifying information from public review, we cannot guarantee that we will be able to do so.

Dated: March 26, 2012.
Benjamin Simon,
Assistant Director, Office of Policy Analysis, U.S. Department of the Interior.

[FR Doc. 2012-7665 Filed 3-29-12; 8:45 am]

BILLING CODE 4310-RK-P